FEDERAL COMMUNICATIONS COMMISSION

Notice of Public Information Collection(s) Being Reviewed by the Federal Communications Commission

September 23, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 3, 2003. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION:

OMB Control No.: 3060-0723.

Title: Public Disclosure of Network Information by Bell Operating Companies (BOCs).

Form No: N/A.

Type of Review: Extension of a currently approved collection.

Respondents: Business or other for-profit entities

Number of Respondents: 7.

Estimated Time Per Response: 50 hours.

Frequency of Response: On occasion reporting requirement and third party disclosure requirement.

Total Annual Burden: 350 hours.

Total Annual Cost: N/A.

Needs and Uses: Bell Operating Companies (BOCs) must make public disclosure of network information. This will prevent them from designing new network services or changing network technical specifications to the advantage of their own payphones. The information required by the BOCs must be provided to third parties. All of the requirements would be used to ensure the BOCs comply with their obligations under the 1996 Act.

OMB Control No.: 3060-0775.

Title: Separate Affiliate Requirement for Independent Local Exchange Carrier (LEC) Provision of International, Interexchange Services (47 CFR 64.1901-64.1903).

Form No: N/A.

Type of Review: Extension of a currently approved collection.

Respondents: Business or other for-profit entities

Number of Respondents: 10.

Estimated Time Per Response: 6,056 hours.

Frequency of Response: Recordkeeping requirement.

Total Annual Burden: 60,563 hours.

Total Annual Cost: $1,003,000.

Needs and Uses: The Commission imposes this recordkeeping requirement to ensure that independent LECs providing international, interexchange services through a separate affiliate are in compliance with the Communications Act of 1934, as amended, and with Commission policies and regulations. The Commission is submitting this information collection as an extension (no change) for the full three year OMB clearance.

Federal Communications Commission.
Marlene H. Dortch,
Secretary.

[FR Doc. 03-25037 Filed 10-2-03; 8:45 am]

BILLING CODE 6712-01-P